DEPARTMENT OF ENERGY

Federal Energy Regulatory Commission

[Docket No. ER98-2668-009, et al.]

Duke Energy Moss Landing LLC, et al.; Electric Rate and Corporate Regulation Filings

July 20, 2000.

Take notice that the following filings have been made with the Commission:

1. Duke Energy Moss Landing LLC and Duke Energy Oakland LLC

[Docket Nos. ER98-2668-009, ER99-1127-007, and ER98-4300-006; ER98-2669-008, ER99-1128-007, and ER98-4296-006]

Take notice that on July 13, 2000, Duke Energy Moss Landing, LLC and Duke Energy Oakland, LLC tendered for filing a revised compliance report regarding refunds as required by the Commission's Order issued January 28, 2000 approving the Final Offer of Settlement filed in the above-captioned proceeding on November 16, 1999. This revised compliance report substitutes for the compliance report noticed by the Commission on April 18, 2000 in the above-captioned proceedings.

Comment date: August 3, 2000, in accordance with Standard Paragraph E at the end of this notice.

2. Lowell Cogeneration Company Limited Partnership

[Docket No. ER97-2414-003]

Take notice that on July 17, 2000, Lowell Cogeneration Company Limited Partnership (Lowell), tendered for filing a three year update to its market power study in compliance with the Commission's Order in Docket No. ER97-2414-000 granting Lowell market based rate authority.

Comment date: August 7, 2000, in accordance with Standard Paragraph E at the end of this notice.

3. Central Power and Light Company, West Texas Utilities Company, Public Service Company of Oklahoma, and Southwestern Electric Power Company

[Docket Nos. ER99-1659-006 and ER99-1660-006]

Take notice that on July 17, 2000, Central Power and Light Company, West Texas Utilities Company, Public Service Company of Oklahoma, and Southwestern Electric Power Company (for the purposes of this filing, the CSW Operating Companies), tendered for filing a refund report pursuant to the Commission's June 1, 2000 order in the above-captioned docket regarding refunds to Northeast Texas Electric Cooperative, Inc., and East Texas Electric Cooperative, Inc., on their network service agreements under the CSW Operating Companies' open access transmission service tariff.

A copy of this filing has been served on each person designated on the official service list compiled by the Secretary in this proceeding, each of the affected wholesale customers, and on the Arkansas Public Service Commission, the Louisiana Public Service Commission, the Oklahoma Corporation Commission and the Public Utility Commission of Texas.

Comment date: August 7, 2000, in accordance with Standard Paragraph E at the end of this notice.

4. PPL Electric Utilities Corporation

[Docket No. ER00-1712-001]

Take notice that on July 17, 2000, PPL Utilities Corporation (PPL Utilities), tendered for filing an updated market power analysis pursuant to Ordering Paragraph (D) of the Commission's order in Pennsylvania Power & Light Company, 80 FERC ¶ 61,053 (1997).

PPL Utilities has served a copy of this filing on the parties on the Commission's official service list for this docket.

Comment date: August 7, 2000, in accordance with Standard Paragraph E at the end of this notice.

5. Wisconsin Electric Power Company

[Docket No. ER00-3161-000]

Take notice that July 17, 2000, Wisconsin Electric Power Company (Wisconsin Electric), tendered for filing an amendment to its electric service agreement (SA) with Badger Power Marketing Authority of Wisconsin (BPMA). The SA is under Wisconsin Electric's FERC Electric Tariff Third Revised Volume No. 1 and is Service Agreement No. 25.

Wisconsin Electric respectfully requests an effective date of July 17, 2000.

Copies of the filing have been served on BPMA, the Michigan Public Service Commission, and the Public Service Commission of Wisconsin.

Comment date: August 7, 2000, in accordance with Standard Paragraph E at the end of this notice.

6. Cinergy Services, Inc.

[Docket No. ER00-3162-000]

Take notice that on July 17, 2000, Cinergy Services, Inc. (Cinergy), tendered for filing a Non-Firm Point-To-Point Service Agreement under Cinergy's Open Access Transmission Service Tariff (OATT) entered into between Cinergy and Indianapolis Power & Light Company (IPL).

Cinergy and IPL are requesting an effective date of June 19, 2000.

Comment date: August 7, 2000, in accordance with Standard Paragraph E at the end of this notice.

7. Cinergy Services, Inc.

[Docket No. ER00-3163-000]

Take notice that on July 14, 2000, Cinergy Services, Inc. (Cinergy), tendered for filing a Non-Firm Point-To-Point Service Agreement under Cinergy's Open Access Transmission Service Tariff (OATT) entered into between Cinergy and FPL Energy Power Marketing, Inc., (FPL).

Cinergy and FPL are requesting an effective date of June 19, 2000.

Comment date: August 7, 2000, in accordance with Standard Paragraph E at the end of this notice.

8. Cinergy Services, Inc.

[Docket No. ER00-3164-000]

Take notice that on July 17, 2000, Cinergy Services, Inc. (Cinergy), tendered for filing a Firm Point-To-Point Service Agreement under Cinergy's Open Access Transmission Service Tariff (OATT) entered into between Cinergy and FPL Energy Power Marketing, Inc., (FPL).

Cinergy and FPL are requesting an effective date of June 19, 2000.

Comment date: August 7, 2000, in accordance with Standard Paragraph E at the end of this notice.

9. Cinergy Services, Inc.

[Docket No. ER00-3165-000]

Take notice that on July 17, 2000, Cinergy Services, Inc. (Cinergy), tendered for filing a Non-Firm Point-To-Point Service Agreement under Cinergy's Open Access Transmission Service Tariff (OATT) entered into between Cinergy and H.Q. Energy Services (U.S.) Inc., (HQES).

Cinergy and HQES are requesting an effective date of June 19, 2000.

Comment date: August 7, 2000, in accordance with Standard Paragraph E at the end of this notice.

10. Cinergy Services, Inc.

[Docket No. ER00-3166-000]

Take notice that on July 17, 2000, Cinergy Services, Inc. (Cinergy), tendered for filing a Firm Point-To-Point Service Agreement under Cinergy's Open Access Transmission Service Tariff (OATT) entered into between Cinergy and Indianapolis Power & Light Company (IPL).

Cinergy and IPL are requesting an effective date of June 19, 2000.

Comment date: August 7, 2000, in accordance with Standard Paragraph E at the end of this notice.

11. Cinergy Services, Inc.

[Docket No. ER00-3167-000]

Take notice that on July 17, 2000, Cinergy Services, Inc. (Cinergy), tendered for filing a Firm Point-To-Point Service Agreement under Cinergy's Open Access Transmission Service Tariff (OATT) entered into between Cinergy and H.Q. Energy Services (U.S.) Inc., (HQES).

Cinergy and HQES are requesting an effective date of June 19, 2000.

Comment date: August 7, 2000, in accordance with Standard Paragraph E at the end of this notice.

12. North Central Missouri Electric Cooperative Inc.

[Docket No. ER00-3170-000]

Take notice that on July 17, 2000, North Central Missouri Electric Cooperative, Inc. (North Central), tendered for filing an Agreement Covering Purchase of Electric Power & Energy between North Central Missouri Electric Cooperative, Inc. and City of Milan, Missouri, (Milan Agreement), a Joint Use and Rental Agreement between North Central Missouri Electric Cooperative, Inc. and Grundy Electric Cooperative, Inc. (Grundy Agreement), and a Facilities Lease Agreement between North Central Missouri Electric Cooperative, Inc. and City of Unionville, Missouri (Unionville Agreement). North Central's filings were made pursuant to § 205 of the Federal Power Act (FPA), 16 U.S.C. 824d, and § 35.12 of the Regulations of the Federal Energy Regulatory Commission (Commission), 18 CFR 35.12. North Central's filing is available for public inspection at its offices in Milan, Missouri.

North Central requests that the Commission accept the agreements with an effective date of July 18, 2000 or such later date as North Central becomes subject to the Commission's jurisdiction.

Comment date: August 7, 2000, in accordance with Standard Paragraph E at the end of this notice.

13. Alliant Energy Corporate Services, Inc.

[Docket No. ER00-3171-000]

Take notice that on July 17, 2000, Alliant Energy Corporate Services, Inc. (Alliant Energy), tendered for filing an executed Service Agreement for short-term firm point-to-point transmission service, establishing Cinergy Services, Inc., as a point-to-point Transmission Customer under the terms of the Alliant Energy Corporate Services, Inc. transmission tariff.

Alliant Energy Corporate Services, Inc., requests an effective date of July 7, 2000, and accordingly, seeks waiver of the Commission's notice requirements.

A copy of this filing has been served upon the Illinois Commerce Commission, the Minnesota Public Utilities Commission, the Iowa Department of Commerce, and the Public Service Commission of Wisconsin.

Comment date: August 7, 2000, in accordance with Standard Paragraph E at the end of this notice.

14. Madison Gas and Electric Company

[Docket No. ER00-3172-000]

Take notice that on July 17, 2000, Madison Gas and Electric Company (MGE), tendered for filing service agreements under MGE's Market-Based Power Sales Tariff with:

• British Columbia Power Exchange Corporation—“Powerex”.

• Wisconsin Public Service Corporation.

MGE requests the agreements be effective on the date they were filed with the FERC.

Comment date: August 7, 2000, in accordance with Standard Paragraph E at the end of this notice.

15. South Carolina Electric & Gas Company

[Docket No. ER00-3173-000]

Take notice that on July 17, 2000, South Carolina Electric & Gas Company (SCE&G), tendered for filing a service agreement establishing Cargill-Alliant, LLC as a firm point-to-point customer under the terms of SCE&G's Open Access Transmission Tariff.

SCE&G requests an effective date of one day subsequent to the filing of the service agreement. Accordingly, SCE&G requests waiver of the Commission's notice requirements.

Copies of this filing were served upon Cargill-Alliant, LLC and the South Carolina Public Service Commission.

Comment date: August 7, 2000, in accordance with Standard Paragraph E at the end of this notice.

16. South Carolina Electric & Gas Company

[Docket No. ER00-3174-000]

Take notice that on July 17, 2000, South Carolina Electric & Gas Company (SCE&G), tendered for filing a service agreement establishing Allegheny Energy Supply Company, LLC as a firm point-to-point customer under the terms of SCE&G's Open Access Transmission Tariff.

SCE&G requests an effective date of one day subsequent to the filing of the service agreement. Accordingly, SCE&G requests waiver of the Commission's notice requirements.

Copies of this filing were served upon Allegheny Energy Supply Company, LLC and the South Carolina Public Service Commission.

Comment date: August 7, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-19057 Filed 7-27-00; 8:45 am]

BILLING CODE 6717-01-P